DEPARTMENT OF HEALTH AND HUMAN SERVICES

Indian Health Service

[Funding Announcement Number: HHS-2010-IHS-TSGN-0001]

Tribal Self-Governance Program; Negotiation Cooperative Agreement

Announcement Type: New.

Catalog of Federal Domestic Assistance Number: 93.444.

Key Dates: Application Deadline Date: April 16, 2010. Review Date: May 14, 2010. Anticipated Start Date: June 14, 2010.

I. Funding Opportunity Description

The purpose of the Negotiation Cooperative Agreement is to provide resources to Tribes interested in participating in the Tribal Self-Governance Program (TSGP), as authorized by Public Law (Pub. L.) 106-260, the Tribal Self-Governance Amendments of 2000, and Title V of the Indian Self-Determination and Education Assistance Act, Public Law 93-638, as amended (Title V) (25 U.S.C. 458aaa-2(e)). The Negotiation Cooperative Agreement provides a Tribe with funds to help cover the expenses involved in preparing for and negotiating a compact and Funding Agreement (FA) with the Indian Health Service (IHS).

There is limited competition under this announcement because the authorizing legislation restricts eligibility to Tribes that meet specific criteria (Refer to Section III.1.A., Eligible Applicants in this announcement). The TSGP is designed to promote Self-Governance by enabling Tribes to assume control of IHS programs, services, functions, and activities (PSFAs), or portions thereof, through compacts negotiated with the IHS. This program is described at 93.444 in the Catalog of Federal Domestic Assistance (CFDA).

The Negotiation Cooperative Agreement provides resources to assist Indian Tribes with negotiation activities that include but are not limited to:

1. Determine what PSFAs, or portions therein, will be negotiated.

2. Identification of Tribal funding shares that will be included in the FA.

3. Development of the terms and conditions that will be set forth in the compact and FA.

Indian Tribes that have completed comparable health planning activities in previous years using Tribal resources are not required to receive a Self-Governance Planning Cooperative Agreement to be eligible to apply for a Negotiation Cooperative Agreement. The receipt of a Negotiation Cooperative Agreement award is not a prerequisite to enter the TSGP.

The Tribes eligible to compete for the Negotiation Cooperative Agreements include: Any Federally recognized Indian Tribe that has not previously received a Negotiation Cooperative Agreement; Federally recognized Indian Tribes that have previously received a Negotiation Cooperative Agreement, but chose not to enter the TSGP; and those Federally recognized Indian Tribes that received a Negotiation Cooperative Agreement, entered the TSGP, and would like to negotiate the assumption of new and expanded programs. If a Tribe applies for a Planning Cooperative Agreement within the same grant cycle, the Negotiation Cooperative Agreement will be awarded only upon the successful completion of the Planning Cooperative Agreement.

II. Award Information

Type of Awards: Cooperative Agreement.

Estimated Funds Available: The total amount identified for Fiscal Year (FY) 2010 is $240,000 for approximately eight Tribes. Awards under this announcement are subject to the availability of funds. In the absence of funding, the agency is under no obligation to make awards that are selected for funding under this announcement.

Anticipated Number of Awards: The estimated number of awards under the program to be funded is approximately eight.

Project Period: 12 months.

Award Amount: $30,000 per year.

Programmatic Involvement: Negotiation Cooperative Agreements entail substantial IHS programmatic involvement to establish a process through which Tribes can effectively approach the IHS to identify PSFAs and associated funding that could be incorporated into their programs.

The grantee roles and responsibilities are critical to the success of the TSGP and include:

• Determining the PSFAs and associated funding the Tribe may elect to assume.

• Preparing to discuss each PSFA in comparison to the current level of services provided, so that an informed decision can be made on new program assumption.

• Developing a compact and FA to submit to the Agency Lead Negotiator prior to negotiations. The Agency Lead Negotiator is the Federal official with the delegated authority of the IHS Director to negotiate compacts and funding agreements on behalf of the IHS.

III. Eligibility Information

1. Eligible Applicants

To be eligible for a Negotiation Cooperative Agreement under this announcement, an applicant must:

A. Be a Federally recognized Tribe as defined in 25 U.S.C. 450b(e). However, Alaska Native Villages or Alaska Native Village Corporations are not eligible if they are located within the area served by an Alaska Native regional health entity already participating in the Alaska Tribal Health Compact in 1998. By Congressional statute, the Native Village of Eyak, Eastern Aleutian Tribes, and the Council for Athabascan Tribal Governments have also been deemed Alaska Native regional health entities. Those Alaska Tribes not represented by a Self-Governance Tribal consortium FA within their area may still be considered to participate in the TSGP.

B. Submit a Tribal resolution or other official action from the appropriate governing body of each Indian Tribe to be served authorizing the submission of the Negotiation Cooperative Agreement application. An Indian Tribe that is proposing a Negotiation Cooperative Agreement affecting another Indian Tribe must include resolutions from all affected Tribes to be served. Tribal consortia applying for a Negotiation Cooperative Agreement shall submit individual Tribal Council Resolutions from all individual Tribes who's PSFAs will be compacted.

Draft resolutions are acceptable in lieu of an official resolution to submit with the application; however an official signed Tribal resolution must be received by the Division of Grants Operations (DGO), Attn: Kimberly M. Pendleton, 801 Thompson Avenue, TMP Suite 360, Rockville, MD 20852, by May 12, 2010, prior to the Objective Review Committee (ORC) evaluation on May 14, 2010. If the IHS DGO does not receive an official signed resolution by May 12, 2010, the application will be considered incomplete and will be returned to the applicant without further consideration.

*It is highly recommended that the Tribal resolution be sent by a delivery method that includes proof of receipt.

C. Demonstrate, for three fiscal years, financial stability and financial management capability, which is defined as no uncorrected significant and material audit exceptions in the required annual audit of the Indian Tribe's Self-Determination contracts or Self-Governance Funding Agreements with any Federal agency.

Applicants are required to submit complete annual audit reports for the three years prior to the year in which the applicant is applying for the Negotiation Cooperative Agreement. The applicants may scan an electronic copy of the documents and attach them to the online application. If the applicant determines that the audit reports are too lengthy, then the applicants may submit them separately via regular mail by the due date, April 16, 2010. Applicants sending in audit reports via regular mail must submit two copies of the complete audits for the three previous fiscal years under separate cover directly to the DGO, Attn: Kimberly M. Pendleton, 801 Thompson Avenue, TMP Suite 360, Rockville, MD 20852, referencing the Funding Opportunity Number, HHS-2010-IHS-TSGN-0001, as prescribed by Public Law 98-502, the Single Audit Act, as amended (see OMB Circular A-133, revised June 24, 1997, Audits of States, Local Governments, and Non-Profit Organizations). If the IHS DGO does not receive this documentation by April 16, 2010, then the application will be considered incomplete and will be returned to the applicant without further consideration. Applicants must include the grant tracking number assigned to their electronic submission from Grants.gov and the date submitted via Grants.gov in their cover letter transmitting the required complete audits for the previous three fiscal years.

2. Cost Sharing or Matching

The Negotiation Cooperative Agreement does not require matching funds or cost sharing to participate in the competitive grant process.

3. Other Requirements

A. This program is described at 93.444 in the CFDA.

B. If the application budget documents exceed the stated dollar amount that is outlined within this announcement, the application will be returned to the applicant without further consideration.

IV. Application and Submission Information

1. Applicant package may be found through Grants.gov (www.Grants.gov) or at: http://www.ihs.gov/NonMedicalPrograms/gogp/index.cfm?module=gogp_funding.

Information regarding this announcement may also be found on the Office of Tribal Self-Governance Web site at: http://www.ihs.gov/NonMedicalPrograms/SelfGovernance/index.cfm?module=planning_negotiation.

2. Content and Form of Application Submission:

A. The application must contain the following:

(1) Table of Contents.

(2) Abstract (one page) summarizing the project.

(3) Project Narrative (no more than seven pages) providing:

(a) Background information on the Tribe.

(b) Proposed scope of work, objectives, and activities that provide a description of what will be accomplished including a one-page Time Frame Chart.

(4) Application forms: SF-424, SF-424A, and SF-424B.

(5) Budget narrative and justification.

(6) Tribal Resolution (or official action).

(7) Appendices:

(a) Work plan for proposed objectives.

(b) Resumes or position descriptions of key staff.

(c) Contractor/Consultant resumes or qualifications and scope of work.

(d) Current Indirect Cost Agreement.

(e) Organizational Chart (optional).

(f) Audits.

B. The project and budget narratives must:

(1) Be single spaced.

(2) Be typewritten.

(3) Have consecutively numbered pages.

(4) Use black type not smaller than 12 characters per one inch.

(5) Be printed on one side only of standard size 8½″ x 11″ paper.

C. The seven-page limit for the narrative does not include the work plan, standard forms, Tribal resolutions or letters of support, table of contents, budget, budget justifications, narratives, and/or other appendix items.

Public Policy Requirements:

All Federal-wide public policies apply to IHS grants with the exception of the Discrimination policy.

3. Submission Dates and Times:

Applications must be submitted electronically through Grants.gov by 12 midnight Eastern Standard Time (EST) on April 16, 2010. Any application received after the application deadline will not be accepted for processing, and it will be returned to the applicant(s) without further consideration for funding.

If technical challenges arise and assistance is required with the electronic application process, contact Grants.gov Customer Support via e-mail to support@grants.gov or at (800) 518-4726. Customer Support is available to address questions 24 hours a day, 7 days a week (except on Federal holidays). If problems persist, contact Tammy Bagley, Division of Grants Policy (DGP) (tammy.bagley@ihs.gov) at (301) 443-5204. Please be sure to contact Ms. Bagley at least ten days prior to the application deadline. Please do not contact the DGP until you have received a Grants.gov tracking number. In the event you are not able to obtain a tracking number, call the DGP as soon as possible.

If an applicant needs to submit a paper application instead of submitting electronically via Grants.gov, prior approval must be requested and obtained. The waiver must be documented in writing (e-mails are acceptable), before submitting a paper application. A copy of the written approval must be submitted along with the hardcopy that is mailed to the DGO (Refer to Section VII for grant contact information). Paper applications that are submitted without a waiver will be returned to the applicant without review or further consideration. Late applications will not be accepted for processing, will be returned to the applicant, and will not be considered for funding.

4. Intergovernmental Review:

Executive Order 12372 requiring intergovernmental review is not applicable to this program.

5. Funding Restrictions:

A. Each Negotiation Cooperative Agreement shall not exceed $30,000.

B. The available funds are inclusive of direct and appropriate indirect costs.

C. Only one Negotiation Cooperative Agreement will be awarded per applicant per grant cycle.

D. Pre-award costs are not allowable without prior approval from the awarding agency. All pre-award costs are incurred at the recipient's risk.

6. Electronic Submission Requirements:

The preferred method for receipt of applications is electronic submission through Grants.gov. In order to submit an application electronically, please go to http://www.Grants.gov and select the “Apply for Grants” link on the home page. Download a copy of the application package on the Grants.gov Web site, complete it offline and then upload and submit the application via the Grants.gov site. You may not e-mail an electronic copy of a grant application to IHS.

Applicants that receive a waiver to submit paper application documents must follow the rules and timelines that are noted below. The applicant must seek assistance at least ten days prior to the application deadline (exact date April 6, 2010).

Please be reminded of the following:

• Please search for the application package in Grants.gov (http://www.Grants.gov) by entering the CFDA number or the Funding Opportunity Number. Both numbers are located in the header of this announcement.

• Paper applications are not the preferred method for submitting applications. However, if you experience technical challenges while submitting your application electronically, please contact Grants.gov Customer Support directly at: http://www.Grants.gov/CustomerSupport or (800) 518-4726. Customer Support is available to address questions 24 hours a day, 7 days a week (except on Federal holidays).

• Upon contacting Grants.gov, obtain a tracking number as proof of contact. The tracking number is helpful if there are technical issues that cannot be resolved and a waiver request from the DGO must be obtained.

• If it is determined that a waiver is needed, you must submit a request in writing (e-mails are acceptable) to GrantsPolicy@ihs.gov with a copy to Tammy.Bagley@ihs.gov. Please include a clear justification for the need to deviate from our standard electronic submission process.

• If the waiver is approved, the application should be sent directly to the DGO grants official (Refer to Section VII) by the deadline date, April 16, 2010.

• You must submit all documents electronically, including all information typically included on the SF-424 and all necessary assurances and certifications. Audits being sent separately must be received by the due date, April 16, 2010. Although draft Tribal resolutions may be submitted with the application, an official signed Tribal resolution must be received by May 12, 2010, prior to the ORC review on May 14, 2010.

• Please use the optional attachment feature in Grants.gov to attach additional documentation that may be requested by IHS.

• Your application must comply with any page limitation requirements described in the program announcement.

• After you electronically submit your application, you will receive an automatic acknowledgment from Grants.gov that contains a Grants.gov tracking number. The IHS DGO will retrieve your application from Grants.gov. The DGO will not notify applicants that the application has been received.

• If submission of a paper application is requested and approved, the original and two copies must be sent to the appropriate grants contact listed in Section VII.

• E-mail applications will not be accepted under this announcement.

Dun and Bradstreet (D&B) Data Universal Numbering System (DUNS)

Applicants are required to have a DUNS number to apply for a grant or cooperative agreement from the Federal Government. The DUNS number is a unique nine-digit identification number provided by D&B, which uniquely identifies your entity. The DUNS number is site specific; therefore each distinct performance site may be assigned a DUNS number. Obtaining a DUNS number is easy and there is no charge. To obtain a DUNS number, you may access it through the following Web site http://fedgov.dnb.com/webform or to expedite the process call (866) 705-5711.

Another important fact is that applicants must also be registered with the Central Contractor Registration (CCR) and a DUNS number is required before an applicant can complete their CCR registration. Registration with the CCR is free of charge. Applicants may register online at http://www.ccr.gov or by calling (866) 606-8220. Additional information regarding the DUNS, CCR, and Grants.gov processes can be found at: www.Grants.gov.

V. Application Review Information

1. Criteria

A. Demonstration of Previous Planning Activities (30 points).

Has the Indian Tribe determined the PSFAs it will assume? Has the Indian Tribe determined it has the administrative infrastructure to support the assumption of the PSFAs? Are the results of what was learned or is being learned during the planning process clearly stated?

B. Thoroughness of Approach (25 points).

Is a specific narrative provided regarding the direction the Indian Tribe plans to take in the TSGP? How will the Tribe demonstrate improved health and services to the community it serves? Are proposed time lines for negotiations indicated?

C. Project Outcome (25 points).

What beneficial contributions are expected or anticipated for the Tribe? Is information provided on the services that will be assumed? What improvements will be made to manage the health care system? Are Tribal needs discussed in relation to the proposed programmatic alternatives and outcomes which will serve the Tribal community?

D. Administrative Capabilities (20 points).

Does the Indian Tribe clearly demonstrate knowledge and experience in the operation and management of health programs? Is the internal management and administrative infrastructure of the applicant described?

2. Review and Selection Process

In addition to the criteria in Section V.1., applications are considered according to the following:

A. Application Submission

(1) The applicant and proposed project type is eligible in accordance with this cooperative agreement announcement.

(2) The application is not a duplication of a previously funded project.

(3) The application narrative, forms, and materials submitted meet the requirements of the announcement, allowing the review panel to undertake an in-depth evaluation.

B. Competitive Review of Eligible Applications

Applications will undergo an initial pre-screening by the DGO. The pre-screening will assess whether applications that meet the eligibility requirements are complete, responsive, and conform to criteria outlined in this program announcement. The applications that meet the minimum criteria will be reviewed for merit by the ORC based on the evaluation criteria. The ORC is composed of both Tribal and Federal reviewers, appointed by the IHS, to review and make recommendations on these applications. The review will be conducted in accordance with the IHS Objective Review Guidelines. The technical review process ensures selection of quality projects in a national competition for limited funding. Applications will be evaluated and rated by each reviewer on the basis of the evaluation criteria listed in Section V.1. The reviewers will use the criteria outlined in this announcement to evaluate the quality of a proposed project, determine the likelihood of success, and assign a numerical score to each application. The scoring of approved applications will assist the IHS in determining which proposals will be funded if the amount of TSGP funding is not sufficient to support all approved applications. Applications scored by the ORC at 60 points and above will be recommended for approval and forwarded to the DGO for cost analysis and further recommendation. The program official will forward the approval list to the IHS Director for final review and approval. Applications scoring below 60 points will be disapproved.

Note: In making final selections, the IHS Director will consider the ranking factors and the status of the applicant's three previous years' single audit reports. The comments from the individual reviewers that participate in the ORC will be recommendations only. The IHS Director will make the final decision on awards.

VI. Award Administration Information

1. Award Notices

The Notice of Award (NoA) is a legally binding document, signed by the Grants Management Officer, and serves as the official notification of the grant award. The NoA is the authorizing document for which funds are dispersed to the approved entities and reflects the amount of Federal funds awarded, the purpose of the grant, the terms and conditions of the award, the effective date of the award, and the budget/project period. The NoA will be mailed via postal mail to each entity that is approved for funding under this announcement. Applicants who are approved but unfunded or disapproved based on their Objective Review score will receive a copy of the Final Executive Summary which identifies the weaknesses and strengths of the application submitted. Any correspondence other than the NoA announcing to the Project Director that an application was selected is not an authorization to begin performance.

2. Administrative Requirements

Cooperative Agreements are administered in accordance with the following documents:

A. The criteria as outlined this Program Announcement.

B. Program and Administrative Regulations:

• Program Regulations, 42 CFR 136.101 et seq.

• 45 CFR Part 92, Uniform Administrative Requirements for Grants and Cooperative Agreements to State, Local and Tribal Governments.

C. Grants Policy:

• HHS Grants Policy Statement, January 2007.

D. Cost Principles:

• Title 2: Grant and Agreements, Part 225—Cost Principles for State, Local, and Indian Tribal Governments (OMB Circular A-87).

E. Audit Requirements:

• Audits of States, Local Governments, and Non-profit Organizations (OMB Circular A-133).

3. Indirect Costs

This section applies to all grant recipients that request reimbursement of indirect costs in their grant application. In accordance with the HHS Grants Policy Statement, Part II-27, IHS requires applicants to have a current indirect cost rate agreement in place prior to award. The rate agreement must be prepared in accordance with the applicable cost principles and guidance as provided by the cognizant agency or office. A current rate means the rate covering the applicable activities and the award budget period. If the current rate is not on file with the DGO at the time of award, the indirect cost portion of the budget will be restricted and not available to the recipient until the current rate is provided to the DGO. Generally, indirect costs rates for IHS grantees are negotiated with the Division of Cost Allocation (http://rates.psc.gov/) and the Department of the Interior National Business Center (1849 C St., NW., Washington, DC 20240) (http://www.aqd.nbc.gov/services/ICS/aspx). If your organization has questions regarding the indirect cost policy, please contact the DGO at (301) 443-5204 to request assistance.

4. Reporting Requirements

Grantees must submit the reports consistent with the applicable deadlines. Failure to submit required reports within the time allowed may result in suspension or termination of an active cooperative agreement, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

A. Progress Report. Program progress reports are required to be submitted semi-annually, within 30 days after the budget period ends, and will include a brief comparison of actual accomplishments to the goals established for the period, or, if applicable, provide sound justification for the lack of progress, and other pertinent information as required. A final report must be submitted within 90 days of expiration of the budget/project period.

B. Financial Status Report. Semi-annual financial status reports must be submitted within 30 days after the budget period ends. Final financial status reports are due within 90 days of expiration of the budget/project period. Standard Form (SF) 269 (long form) will be used for financial reporting and the final SF-269 must be verified from the grantee's records on how the value was derived.

C. Federal Cash Transaction Reports are due every calendar quarter to the Division of Payment Management (DPM), Payment Management Branch. Please refer to the DPM Web site (http://www.dpm.psc.gov/) for additional guidance. Failure to submit timely reports may cause a disruption in timely payments to your organization.

Telecommunication for the hearing impaired is available at: TTY (301) 443-6394.

VII. IHS Agency Contact(s)

1. Questions on the programmatic issues may be directed to: Anna Old Elk, Program Analyst, Office of Tribal Self-Governance, Telephone No.: (301) 443-7821, Fax No.: (301) 443-1050, E-mail: anna.oldelk@ihs.gov.

2. Questions on grants management and fiscal matters may be directed to: Kimberly M. Pendleton, Grants Management Officer, Division of Grants Operations, Telephone No.: (301) 443-5204, Fax No.: (301) 443-9602, E-mail: kimberly.pendleton@ihs.gov.

VIII. Other Information

The Public Health Service (PHS) strongly encourages all cooperative agreement and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the PHS mission to protect and advance the physical and mental health of the American people.

Dated: March 1, 2010.
Yvette Roubideaux,
Director, Indian Health Service.

[FR Doc. 2010-4854 Filed 3-5-10; 8:45 am]

BILLING CODE 4165-16-P